DEPARTMENT OF HOMELAND SECURITY

Coast Guard

33 CFR Part 117

[Docket No. USCG-2017-0311]

Drawbridge Operation Regulation; Quantuck Canal, Westhampton Beach, NY

AGENCY: Coast Guard, DHS.

ACTION: Notice of temporary deviation from drawbridge regulation; modification.

SUMMARY: The Coast Guard has modified a temporary deviation from the operating schedule that governs the Beach Lane Bridge across the Quantuck Canal, mile 1.1 at Westhampton Beach, New York. This action is necessary to complete rehabilitation of the bascule leaves of the drawbridge. This modified deviation extends the period during which the bridge may open only one bascule span at a time in order to provide passage for vessels requiring an opening.

DATES: This deviation is effective from September 30, 2017 through 11:59 p.m. on October 13, 2017.

ADDRESSES: The docket for this deviation, USCG-2017-0311 is available at http://www.regulations.gov. Type the docket number in the “SEARCH” box and click “SEARCH.” Click on Open Docket Folder on the line associated with this deviation.

FOR FURTHER INFORMATION CONTACT: If you have questions on this modified temporary deviation, call or email James M. Moore, Bridge Management Specialist, U.S. Coast Guard; telephone 202-372-1518, email james.m.moore2@uscg.mil.

SUPPLEMENTARY INFORMATION: The Suffolk County Department of Public Works, the owner of the bridge, requested a temporary deviation in order to complete rehabilitation of the bascule leaves and painting of the bridge. The Beach Lane Bridge across the Quantuck Canal at mile 1.1 at Westhampton Beach, New York is a double-leaf bascule bridge with a vertical clearance of 13.9 feet at mean high water and 16.2 feet at mean low water in the closed position. Horizontal clearance is 50.3 feet, but utilization of a work barge placed underneath one of the bascule leaves reduces horizontal clearance to 25 feet. The existing drawbridge operating regulations are listed at 33 CFR 117.799(d).

On May 15, 2017, the Coast Guard published a temporary deviation entitled “Drawbridge Operation Regulation; Quantuck Canal, Westhampton Beach, NY” in the Federal Register (82 FR 22281). Under that temporary deviation, between April 17, 2017 and September 30, 2017, the Beach Lane Bridge was authorized to open only one bascule span at a time in order to provide passage for vessels requiring an opening. Dual lift span operations would be permitted provided 48 hours of advance notice was furnished to the owner of the bridge.

Due to unanticipated project delays, the Suffolk County Department of Public Works has requested to continue one-leaf operations until October 13, 2017, allowing for completion of bascule leaf rehabilitation.

Vessels that can pass under the bridge without an opening may do so at all times. The bridge will be able to open for emergencies. There is no alternate route for vessels to pass.

The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: September 7, 2017.
Christopher J. Bisignano,
Supervisory Bridge Management Specialist, First Coast Guard District.

[FR Doc. 2017-19374 Filed 9-12-17; 8:45 am]

BILLING CODE 9110-04-P